DEPARTMENT OF LABOR

Employment and Training Administration

Notice of a Change in Status of the Extended Benefit (EB) Program for District of Columbia, Massachusetts, New Mexico, and Rhode Island

AGENCY: Employment and Training Administration, Labor.

ACTION: Notice.

This notice announces changes in benefit period eligibility under the EB program that have occurred since the publication of the last notice regarding the States' EB status:

• Based on data released by the Bureau of Labor Statistics (BLS) on May 21, 2021:

○ The seasonally-adjusted total unemployment rate (TUR) for New Mexico exceeded 8.0 percent was greater than 110 percent in both the prior or second prior year. Legislation the State enacted adopting the optional TUR triggers became effective the week ending June 19, 2021, meaning the New Mexico will begin a high unemployment period (HUP) period effective July 4, 2021. Beginning July 4, 2021, the maximum potential EB entitlement for claimants in New Mexico will be 20 weeks.

○ The 13-week mandatory “on” period for the HUP for the District of Columbia and Massachusetts will end on July 3, 2021. During the 13-week mandatory “on” period, the seasonally-adjusted TURs for both the District and Massachusetts fell below the 8.0% threshold necessary to remain “on” a HUP. As such, beginning July 4, 2021, the maximum potential EB entitlement for claimants in the District of Columbia and Massachusetts will decrease from 20 weeks to 13 weeks.

• Based on the data released by the BLS on June 23, 2021 the seasonally-adjusted TUR for Massachusetts and Rhode Island fell below the 6.5% threshold to remain “on” EB. Therefore, the EB period for both states will end on July 17, 2021.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Suzan G. LeVine,
Principal Deputy Assistant Secretary for Employment and Training, Labor.

[FR Doc. 2021-15110 Filed 7-15-21; 8:45 am]

BILLING CODE 4510-FW-P